DEPARTMENT OF THE INTERIOR

National Park Service

Bureau of Reclamation

Final Environmental Impact Statement for Clean Water Coalition Systems Conveyance and Operations Program Lake Mead National Recreation Area, Clark County, NV; Notice of Availability

SUMMARY: Pursuant to § 102(2)(C) of the National Environmental Policy Act of 1969 and the corresponding Council of Environmental Quality implementing regulations (40 CFR parts 1500-1508), the National Park Service and Bureau of Reclamation, as lead agencies for the Department of Interior, announce the availability of the Clean Water Coalition Systems Conveyance and Operations Program (SCOP) Final Environmental Impact Statement (Final EIS). The SCOP Final EIS completes the evaluation of potential environmental impacts associated with a proposed pipeline alternative, two additional pipeline alternatives, and the baseline No Action alternative (and also presents a Process Improvements option derived from the No Action Alternative). The purpose of implementing the proposal is to put into operation a treatment and conveyance system that will allow for flexible management of wastewater flow in the Las Vegas Valley, while maintaining water quality standards. Clark County, Nevada is one of the fastest growing counties in the U.S., with a projected population in the area of approximately 3,130,000 by 2035. The quantity of effluent treated and discharged in the Las Vegas Valley will increase with the Valley populations. The treatment and conveyance facilities must accommodate the additional flows while continuing to meet current or future water quality standards for Las Vegas Wash and Bay, and Lake Mead.

The Final EIS evaluates effects of the alternatives on both visitor experience and park resources including: surface water hydrology, groundwater, water quality, biological resources/endangered species, cultural resources, recreation, land use, air quality, noise, socioeconomics, and other appropriate resource issues identified during the public scoping phase. An impairment analysis was also completed by the National Park Service (NPS) for the portion of the proposed actions that would impinge upon this unit of the National Park System.

SUPPLEMENTARY INFORMATION: Copies of the Final EIS may be obtained by contacting the SCOP EIS Project Manager, PBS&J, 2270 Corporate Circle, Suite 100, Henderson, NV 89074 (or e-mailing to eis@cleanwatercoalition.com). The Final EIS will also be made available at public libraries in the following locations: Nevada: Boulder City Library, Las Vegas Public Library, Searchlight Library, Community College of Southern Nevada, Sahara West Library, Mesquite Library, University of Nevada-Las Vegas, James I. Gibson Library, Clark County Library, James R. Dickinson Library, Moapa Valley Library, Green Valley Library, Sunrise Public Library, Laughlin Library. Arizona: Burton Barr Central Library, Tempe Public Library, University of Arizona Library, Meadview Community Library, Mohave County Library. Utah: Washington County Library. California: Environmental Services Library in San Diego, Palm Springs Public Library. Finally, the document will also be available via the Internet at http://www.cleanwatercoalition.com and http://www.nps.gov/lame/docs.html. For questions concerning release of the Final EIS, please contact: Mr. Michael Boyles, National Park Service, Lake Mead National Recreation Area, 601 Nevada Way, Boulder City, NV 89005, telephone (702) 293-8978; or Mr. Anthony Vigil (LC-2621), Bureau of Reclamation, P.O. Box 61470, Boulder City, NV 89006-1470, telephone (702) 293-8674.

Please note that all information received in support of preparing the EIS becomes part of the public record. Our practice is to make comments, including names, home addresses, home phone numbers, and e-mail addresses of respondents, available for public review. Before including your address, phone number, e-mail address, or other personal identifying information in your comment—including your personal identifying information—may be made publicly available at any time. While you can ask us in your comment to withhold your personal identifying information from public review, we cannot guarantee that we will be able to do so.

Public Involvement and Other Agency Coordination: The NPS, along with the Bureau of Reclamation, began the conservation planning and environmental impact analysis process for SCOP in 2002. The Notice of Intent (NOI) to prepare an EIS was published in the Federal Register on July 26, 2002. In addition to the NOI, notices were published in local and regional newspapers announcing public scoping meetings, which were held in August of 2002 in Las Vegas and Henderson, NV, Kingman and Phoenix, AZ, and San Diego and Palm Springs, CA. Postcards including a brief description of the proposed project and the locations and dates of the public meetings were mailed to all interested parties in Nevada, Arizona, and California. The Draft EIS was released for public review (and also distributed to the area libraries listed above) in late September 2005; the EPA's announcement of availability of the Draft EIS was noticed in the Federal Register on October 7, 2005. Nine public comment meetings were held during October, 2005 in the same cities in which the initial public scoping sessions were conducted. The public comment period on the Draft EIS ended December 6, 2005. Over 500 oral and written comments were received. The Final EIS contains responses to all comments received and incorporates additional information obtained during the review period.

Implementation of SCOP will require a permit from the U.S. Army Corps of Engineers, which regulates construction and dredging of navigable waters of the U.S. It will also require a right-of-way permit from the Bureau of Land Management for those portions of the alignment which cross lands under that agency's jurisdiction. Coordination with Native Americans occured in 2002 and 2004. Consultation with the U.S. Fish and Wildlife Service under Section 7 of the Endangered Species Act is in process, as are consultations under Section 106 of the National Historic Preservation Act.

Proposal and Alternatives: The SCOP Final EIS evaluates the potential environmental impacts associated with three pipeline alternatives, a Process Improvements Alternative, and the No-Action Alternative (the three pipeline alternatives and No Action alternatives were presented in the Draft EIS). The Boulder Islands North Alternative is the “environmentally preferred” alternative and remains the “agency preferred” alternative. However, based on public comments, the pipeline alternatives have been slightly modified and the Process Improvements Alternative has been added.

The pipeline alternatives have been revised to limit the total phosphorus loading discharged to Lake Mead and the Las Vegas Wash to not exceed the current wasteload allocation of 334 pounds per day on an average annual basis during ordinary conditions. In addition, details regarding the Boulder Basin Adaptive Management Plan have been included in the description of the pipeline alternatives. The Process Improvements Alternative has been added to the EIS. Although the Process Improvements Alternative meets the definition of “No Action” described in CEQ's Forty Questions, and is considered an extension of the original “No Action” alternative, it is analyzed and presented in the Final EIS as a separate alternative at the request of the public.

Additions to the EIS resulting from public comments also include sections addressing the potential impacts to downstream users; a more extensive review of the studies and literature that are available regarding endocrine disrupting chemicals and pharmaceuticals and personal care products, and a discussion of the treatment capabilities of the plants and the effectiveness in removal of these substances; and a description of the destratification of Lake Mead and its effect on water quality.

Decision Process: The National Park Service and Bureau of Reclamation will prepare separate Records of Decision no sooner than 30 days following publication of the Environmental Protection Agency's notice of availability in the Federal Register. Following approval of the selected actions, the officials responsible for implementation are the Superintendent, Lake Mead National Recreational Area and the Regional Director, Lower Colorado Region, Bureau of Reclamation.

Dated: November 14, 2006.
Robert Walsh,
Acting Regional Director, Lower Colorado Region, Bureau of Reclamation.
Dated: November 20, 2006.
Jonathan B. Jarvis,
Regional Director, Pacific West Region, National Park Service.

Editorial Note: This document was received at the Office of the Federal Register on March 2, 2007.

[FR Doc. 07-1049 Filed 3-6-07; 8:45 am]

BILLING CODE 4310-A7-P